DEPARTMENT OF TRANSPORTATION

Federal Aviation Administration

Sixth Meeting—Special Committee 222: Inmarsat Aeronautical Mobile Satellite (Route) Services

AGENCY: Federal Aviation Administration (FAA), DOT.

ACTION: Notice of RTCA Special Committee 222: Inmarsat Aeronautical Mobile Satellite (Route) Services meeting.

SUMMARY: The FAA is issuing this notice to advise the public of a meeting of RTCA Special Committee 222: Inmarsat Aeronautical Mobile Satellite (Route) Services.

DATES: The meeting will be held Tuesday, August 3, 2010 from 1:30 p.m.-5 p.m. Eastern Daylight Time.

ADDRESSES: The meeting will be held at ARINC Building 6, Conference Center Room 6-A1, 2551 Riva Road, Annapolis, Maryland 21401-7435. An RSVP to Mike Rockwell (mdr@arinc.com), Chuck LaBerge (laberge.engineering@gmail.com) and Daryl McCall (dmccall@fastekintl.com) is requested by close of business Monday, July 26, 2010.

Dress: Business Casual.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a) (2) of the Federal Advisory Committee Act (Pub. L. 92-463, 5 U.S.C., Appendix 2), notice is hereby given for a Special Committee 222: Inmarsat Aeronautical Mobile Satellite (Route) Services. The agenda will include:

Tuesday, August 3, 2010—1 p.m.

• Opening Plenary (Introductions and Opening Remarks).

• Review and Approval of SC-222/WP-043, Summary for the 5th Meeting of Special Committee 222 held via telecom April 20, 2010.

• Review and Approval of the Agenda for the 6th Meeting of SC-222, WP-046.

• Old Business.

• Review of/reports for the currently active Action Items regarding SBB Safety issues per the minutes of the 5th Plenary Meeting.

• Working Papers and Discussions regarding SC-222 issues.

• Review SkyTerra submission of modifications to draft ATCt appendix (SkyTerra).

• Status of ATCt filter development activities (Inmarsat).

• Status of Inmarsat SBB development and coordination efforts (Inmarsat).

• Discussion on new SBB documentation approach (Inmarsat/LaBerge).

• Additional working papers as may be provided in advance of the meeting.

Note: Working papers posted to the SC-222 Web Site on before July 24 will receive first priority in review. Additional working papers will be reviewed in the order in which they were received. To obtain a new WP number, contact Dr. LaBerge at laberge.engineering@gmail.com. To post a new WP to the Web site, provide a PDF version to Mr. McCall at dmccall@fastekintl.com, with a copy to Dr. LaBerge.

• Additional working papers as may be provided at the meeting.

• Other Business.

• Review of Assignments and Action Items.

• Date and Location for the 7th Meeting of SC-222. Tentatively scheduled for October/November at RTCA.

• Adjourn (no later than 5 p.m.).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on July 6, 2010.
Francisco Estrada C.,
RTCA Advisory Committee.

[FR Doc. 2010-16932 Filed 7-9-10; 8:45 am]

BILLING CODE 4910-13-P